DEPARTMENT OF COMMERCE

National Oceanic and Atmospheric Administration

Agency Information Collection Activities; Submission to the Office of Management and Budget (OMB) for Review and Approval; Comment Request; Pacific Coast Groundfish Fishery Rationalization Social Study

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 4, 2022 during a 60-day comment period. This notice allows for an additional 30 days for public comments.

Agency: National Oceanic and Atmospheric Administration (NOAA), Commerce.

Title: The Pacific Coast Groundfish Fishery Rationalization Social Study.

OMB Control Number: 0648-0606.

Form Number(s): None.

Type of Request: Regular submission [Extension of a current information collection].

Number of Respondents: 142.

Average Hours per Response: Survey/Interview, 1 hour; Interview Only, 30 minutes; Meeting Only, 1 hour.

Total Annual Burden Hours: 134.

Needs and Uses: The Human Dimensions Team of the Conservation Biology Division at the Northwest Fisheries Science Center (NWFSC), Seattle, WA is requesting a renewal of its currently approved voluntary information collection 0648-0606. The data collected under this authorization supports the National Environmental Policy Act (NEPA), the current Magnuson Stevens Fishery Conservation Act (MSA), contributes information to the Endangered Species Act requirements, and the Regulatory Flexibility Act. Information from this data collection has supported National Marine Fisheries Service (NMFS) and Pacific Fisheries Management Council (PFMC) fisheries management actions. Data from this study has been included in broad resources to include the MSA mandated 5-year review of the West Coast Groundfish Trawl Catch Shares Program, in peer-reviewed documents, websites, and white papers. The collection of this data not only informs legal requirements for existing management actions, but also provides information for future management actions requiring equivalent information.

Literature indicates fisheries rationalization programs have an impact on those individuals participating in the affected fishery. The PFMC implemented a rationalization program for the West Coast Groundfish limited entry trawl fishery in January 2011. This research aims to continue to study the individuals in the affected fishery over the long term. It aims to collect data on a five-year cycle, post initial data collection efforts. Prior data collection was related to program design elements. A baseline data collection occurred in 2010, followed by a second post-implementation collection in 2012, and a post quota-share trading collection in 2015/2016. The data collected has contributed to the five-year review of the program and highlighted several areas for continued research. Efforts have also identified the need for long term data collection as species recover and external factors affect fishermen in this fishery. Such challenges include underutilization, high costs of participation, difficulty finding qualified crew, Covid challenges and other challenges. The study has been able to highlight several issues such as `graying of the fleet' in smaller communities, changing women's roles in commercial fishing, and fishermen's adaptations under the new regulations. Continued research is needed to understand continued and long term social impacts. Combined with the ongoing mandatory Economic Data Collection (EDC) and biological data collection, this research provides the PFMC extensive information on concerns and impacts to fishing communities.

This data collection not only supports the requirements of NEPA and NSA, but supports the NWFSC's Vivid Description of the Future (VDOF) priorities to include Healthy Coastal Communities. This research project also supports NOAA's 2022-2026 Strategic Plan contributing information to Strategic Objective 2.2: Support Underserved and Vulnerable Communities, and Strategic Objective 3.3: Improve Resilience of Coastal Communities and Economies.

This study collects a broad swath of information from community members through a questionnaire and semi-structured interviews. Questionnaire sections include Demographic Information, Individual Participation Information, Connections, Catch Shares Perspectives, Quota Owners & Vessel Account Manager Section, Fishermen Section, and a Processors Section. The questionnaire is primarily administered in person in communities where respondents live. Study participants include anyone who has a connection to the West Coast Groundfish Trawl Fishery. This includes fishermen, fishermen's wives, processing personnel, suppliers (ice, net, drydock, etc.), and others linked to the fishery.

As previously indicated information from this study has broad applications. To date, this project has informed concerns of graying of the fleet—age disparities in some fisheries, has highlighted changing women's roles, has supported management to open Yelloweye fisheries, has reported on crew disparities, aims to understand processing challenges, and is contributing to Ecosystem Science Studies. Ongoing studies include infrastructure changes, vessel typology studies, and is contributing to fishing diversity knowledge as well as climate studies. Continued research will inform resilience and adaptation studies, will further inform infrastructure studies, and contribute to and further support efforts to understand underserved communities and build strong and healthy coastal communities.

At this time there are no changes to the questionnaire, no changes to the frequency of the data collection, and no changes to the target population. It is critical to maintain consistent study parameters for the longitudinal and time series study of this fishery to result in accurate and consistent data and results.

Affected Public: Fishermen, Fishing Community Members.

Frequency: Once every 5 years.

Respondent's Obligation: Voluntary.

Legal Authority: MSA, NEPA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0606.

Sheleen Dumas,
Department PRA Clearance Officer, Office of the Chief Information Officer, Commerce Department.

[FR Doc. 2023-00402 Filed 1-10-23; 8:45 am]

BILLING CODE 3510-22-P